DEPARTMENT OF DEFENSE

Department of the Air Force

[Docket ID: USAF-2011-0003]

Privacy Act of 1974; System of Records

AGENCY: Department of the Air Force, DoD.

ACTION: Notice To Alter a System of Records.

SUMMARY: The Department of the Air Force is proposing to alter a system of records notice in its existing inventory of records systems subject to the Privacy Act of 1974, (5 U.S.C. 552a), as amended.

DATES: The proposed action will be effective on February 18, 2011, unless comments are received that would result in a contrary determination.

ADDRESSES: You may submit comments, identified by docket number and/Regulatory Information Number (RIN) and title, by any of the following methods:

• Federal Rulemaking Portal: http://www.regulations.gov. Follow the instructions for submitting comments.

• Mail: Federal Docket Management System Office, Room 3C843, 1160 Defense Pentagon, Washington, DC 20301-1160.

Instructions: All submissions received must include the agency name and docket number or Regulatory Information Number (RIN) for this Federal Register document. The general policy for comments and other submissions from members of the public is to make these submissions available for public viewing on the Internet at http://www.regulations.gov as they are received without change, including any personal identifiers or contact information.

FOR FURTHER INFORMATION CONTACT: Mr. Charles J. Shedrick, 703-696-6488, or Department of the Air Force Privacy Office, Air Force Privacy Act Office, Office of Warfighting Integration and Chief Information Officer, ATTN: SAF/XCPPI, 1800 Air Force Pentagon, Washington, DC 20330-1800.

SUPPLEMENTARY INFORMATION: The Department of the Air Force systems of records notices subject to the Privacy Act of 1974, (5 U.S.C. 552a), as amended, have been published in the Federal Register and are available from the FOR FURTHER INFORMATION CONTACT address above.

The proposed systems reports, as required by 5 United States Code 552a(r) of the Privacy Act, were submitted on January 6, 2011, to the House Committee on Oversight and Government Reform, the Senate Committee on Homeland Security and Governmental Affairs, and the Office of Management and Budget pursuant to paragraph 4c of Appendix I to Office of Management and Budget Circular No. A-130, “Federal Agency Responsibilities for Maintaining Records About Individuals,” dated February 8, 1996, (February 20, 1996, 61 FR 6427).

Dated: January 11, 2011.
Morgan F. Park,
Alternate OSD Federal Register Liaison Officer, Department of Defense.

F036 AF DP A

System Name:

Family Support Center Accountability and Data Collection System (June 11, 1997, 62 FR 31793).

* * * * *

Changes:

System Name:

Delete entry and replace with “Air Force Family Integrated Results and Statistical Tracking.”

System Location:

Delete entry and replace with “Headquarters Air Force Personnel Center, Directorate of Personnel Services, Airman, Family and Community Operations Branch (HQ AFPC/DPSIA), 550 C. Street West, Suite 37, Randolph Air Force Base, TX 78150-4739.”

Categories of individuals covered by the system:

Delete entry and replace with “Active duty Air Force, Air Reserve, and Air National Guard, Air Force DoD civilians, Air Force Retirees and their respective family members.”

Categories of records in the system:

Delete entry and replace with “Demographic data containing Social Security Number (SSN), name, gender, date of birth, home address, home phone, work phone, work e-mail, branch of service, rank, squadron on customer, client visit/service notes on description of services provided and needs assessment information composing of a 10-question Personal Readiness Inventory questionnaire designed to identify needs, referrals to other agencies, customer service plan, and activity results.”

Authority for maintenance of the system:

Delete entry and replace with “10 U.S.C. 8013, Secretary of the Air Force; Air Force Instruction 36-3009, Airman and Family Readiness Centers; and E.O. 9397 (SSN), as amended.”

Purpose:

Delete entry and replace with “The system is used to collect customer service data that in turn helps determine the effectiveness of Airman and Family Readiness Center activities and services as well as collect and provide reports that reflect impact of services on mission and family readiness to leadership. Information is compiled for statistical reporting to base, major commands, Headquarters United States Air Force, Department of Defense, and Congress.”

Routine uses of records maintained in the system, including categories of users and the purposes of such uses:

Delete entry and replace with “In addition to those disclosures generally permitted under 5 U.S.C. 552a(b) of the Privacy Act of 1974, these records contained therein may be specifically disclosed outside the DoD as a routine use pursuant to 5 U.S.C. 552a(b)(3) as follows:

The DoD `Blanket Routine Uses' published at the beginning of the Air Force compilation of systems of records notices apply to this system.”

Policies and practices for storing, retrieving, accessing, retaining, and disposing of records in the system:

Storage:

Delete entry and replace with “Electronic storage media.”

Retrievability:

Delete entry and replace with “Individual files are retrieved by name and/or Social Security Number (SSN).”

Safeguards:

Delete entry and replace with “Records are accessed by person(s) responsible for servicing the record system in performance of their official duties and by authorized personnel who are properly screened and cleared for need-to-know. The system additionally incorporates integrated system security features to protect data from unauthorized access or use: Common Access Card (CAC) login and Personal Identification Number (PIN) is required for access to the system. Records are stored on a secure server in a controlled environment with monitoring 24 hours a day, 7 days a week.”

Retention and disposal:

Delete entry and replace with “Electronic records are deactivated due to Permanent Change of Station (PCS) or deleted due to discharge or retirement by losing/last installation.

Electronic records are destroyed by deleting, overwriting, or disassociating customer service data (raw data needed for short-/long-term trend analysis) from basic customer demographic data (visibility of basic demographic data automatically transferred by system to gaining installation so basic record will not need to be re-created).”

System manager(s) and address:

Delete entry and replace with “Headquarters Air Force Personnel Center, Directorate of Personnel Services, Airman, Family and Community Operations Branch (HQ AFPC/DPSIA), 550 C. Street West, Suite 37, Randolph Air Force Base, TX 78150-4739.”

Notification procedures:

Delete entry and replace with “Individuals seeking to determine whether this system of records contains information on themselves should address inquiries to or visit the Chief, Airman, Family and Community Operations Branch, Directorate of Personnel Services, AFPC. Official mailing address is Headquarters Air Force Personnel Center, Directorate of Personnel Services, Airman, Family and Community Operations Branch (HQ AFPC/DPSIA), 550 C. Street West, Suite 37, Randolph Air Force Base, TX 78150-4739.”

For verification purposes, individuals should provide their full name, Social Security Number (SSN), any details which may assist in locating records, and their signature.

In addition, the requester must provide a notarized statement or an unsworn declaration made in accordance with 28 U.S.C. 1746, in the following format:

If executed outside the United States:

`I declare (or certify, verify, or state) under penalty of perjury under the laws of the United States of America that the foregoing is true and correct. Executed on (date). (Signature)'.

If executed within the United States, its territories, possessions, or commonwealths:

`I declare (or certify, verify, or state) under penalty of perjury that the foregoing is true and correct. Executed on (date). (Signature)'.”

Record access procedures:

Delete entry and replace with “Individuals seeking to access records about themselves contained in this system should address requests to the Chief Airman, Family and Community operations Branch, Directorate of Personnel Services, HQ AFPC or the Chief of the Airman and Family Readiness Center at Air Force installations. Official mailing address is Headquarters Air Force Personnel Center, Directorate of Personnel Services, Airman, Family and Community Operations Branch (HQ AFPC/DPSIA), 550 C. Street West, Suite 37, Randolph Air Force Base, TX 78150-4739.”

For verification purposes, individual should provide their full name, Social Security Number (SSN), any details which may assist in locating records, and their signature.

In addition, the requester must provide a notarized statement or an unsworn declaration made in accordance with 28 U.S.C. 1746, in the following format:

If executed outside the United States:

`I declare (or certify, verify, or state) under penalty of perjury under the laws of the United States of America that the foregoing is true and correct. Executed on (date). (Signature)'.

If executed within the United States, its territories, possessions, or commonwealths: `I declare (or certify, verify, or state) under penalty of perjury that the foregoing is true and correct. Executed on (date). (Signature)'.”

Contesting record procedures:

Delete entry and replace with: “The Air Force rules for accessing records and for contesting contents and appealing initial agency determinations are published in 32 CFR part 806b, Air Force Instruction 33-332, Air Force Privacy Program and may be obtained from the system manager.

* * * * *

F036 AF DP A

System Name:

Air Force Family Integrated Results and Statistical Tracking.

System location:

Headquarters Air Force Personnel Center, Directorate of Personnel Services, Airman, Family and Community Operations Branch (HQ AFPC/DPSIA), 550 C. Street West, Suite 37, Randolph Air Force Base, TX 78150-4739.

Categories of individuals covered by the system:

Active duty Air Force, Air Reserve, and Air National Guard, Air Force DoD civilians, Air Force Retirees and their respective family members.

Categories of records in the system:

Demographic data containing Social Security Number (SSN), name, gender, date of birth, home address, home phone, work phone, work e-mail, branch of service, rank, squadron on customer, client visit/service notes on description of services provided and needs assessment information composing of a 10 question Personal Readiness Inventory questionnaire designed to identify needs, referrals to other agencies, customer service plan, and activity results.

Authority for maintenance of the system:

10 U.S.C. 8013, Secretary of the Air Force; Air Force Instruction 36-3009, Airman and Family Readiness Centers; and E.O. 9397 (SSN), as amended.

Purpose:

The system is used to collect customer service data that in turn helps determine the effectiveness of Airman and Family Readiness Center activities and services as well as collect and provide reports that reflect impact of services on mission and family readiness to leadership. Information is compiled for statistical reporting to base, major commands, Headquarters United States Air Force, Department of Defense, and Congress.

Routine uses of records maintained in the system, including categories of users and the purposes of such uses:

In addition to those disclosures generally permitted under 5 U.S.C. 552a(b) of the Privacy Act of 1974, these records contained therein may be specifically disclosed outside the DoD as a routine use pursuant to 5 U.S.C. 552a(b)(3) as follows:

The DoD `Blanket Routine Uses' published at the beginning of the Air Force compilation of systems of records notices apply to this system.

Policies and practices for storing, retrieving, accessing, retaining, and disposing of records in the system:

Storage:

Electronic storage media.

Retrievability:

Individual files are retrieved by name and/or Social Security Number (SSN).

Safeguards:

Records are accessed by person(s) responsible for servicing the record system in performance of their official duties and by authorized personnel who are properly screened and cleared for need-to-know. The system additionally incorporates integrated system security features to protect data from unauthorized access or use: Common Access Card (CAC) login and Personal Identification Number (PIN) is required for access to the system. Records are stored on a secure server in a controlled environment with monitoring 24 hours a day, 7 days a week.

Retention and disposal:

Electronic records are deactivated due to Permanent Change of Station (PCS) or deleted due to discharge or retirement by losing/last installation.

Electronic records are destroyed by deleting, overwriting, or disassociating customer service data (raw data needed for short/long term trend analysis) from basic customer demographic data (visibility of basic demographic data automatically transferred by system to gaining installation so basic record will not need to be re-created).

System manager(s) and address:

Headquarters Air Force Personnel Center, Directorate of Personnel Services, Airman, Family and Community Operations Branch (HQ AFPC/DPSIA), 550 C. Street West, Suite 37, Randolph Air Force Base, TX 78150-4739.

Notification procedures:

Individuals seeking to determine whether this system of records contains information on themselves should address inquiries to or visit the Chief, Airman, Family and Community Operations Branch, Directorate of Personnel Services, HQ AFPC. Official mailing address is Headquarters Air Force Personnel Center, Directorate of Personnel Services, Airman, Family and Community Operations Branch (HQ AFPC/DPSIA), 550 C. Street West, Suite 37, Randolph Air Force Base, TX 78150-4739.

For verification purposes, individual should provide their full name, Social Security Number (SSN), any details which may assist in locating records, and their signature.

In addition, the requester must provide a notarized statement or an unsworn declaration made in accordance with 28 U.S.C. 1746, in the following format:

If executed outside the United States:

`I declare (or certify, verify, or state) under penalty of perjury under the laws of the United States of America that the foregoing is true and correct. Executed on (date). (Signature)'.

If executed within the United States, its territories, possessions, or commonwealths:

`I declare (or certify, verify, or state) under penalty of perjury that the foregoing is true and correct. Executed on (date). (Signature)'.”

Record access procedures:

Individuals seeking to access records about themselves contained in this system should address requests to the Chief Airman, Family and Community operations Branch, Directorate of Personnel Services, HQ AFPC or the Chief of the Airman and Family Readiness Center at Air Force installations. Official mailing address is Headquarters Air Force Personnel Center, Directorate of Personnel Services, Airman, Family and Community Operations Branch (HQ AFPC/DPSIA), 550 C. Street West, Suite 37, Randolph Air Force Base, TX 78150-4739.

For verification purposes, individual should provide their full name, Social Security Number (SSN), any details which may assist in locating records, and their signature.

In addition, the requester must provide a notarized statement or an unsworn declaration made in accordance with 28 U.S.C. 1746, in the following format:

If executed outside the United States:

`I declare (or certify, verify, or state) under penalty of perjury under the laws of the United States of America that the foregoing is true and correct. Executed on (date). (Signature)'.

If executed within the United States, its territories, possessions, or commonwealths:

`I declare (or certify, verify, or state) under penalty of perjury that the foregoing is true and correct. Executed on (date). (Signature)'.”

Contesting record procedures:

The Air Force rules for accessing records and for contesting contents and appealing initial agency determinations are published in 32 CFR part 806b, Air Force Instruction 33-332, Air Force Privacy Program and may be obtained from the system manager.

Record source categories:

Information obtained from individual, medical institutions, and personnel records.

Exemptions claimed for the system:

None.

[FR Doc. 2011-965 Filed 1-18-11; 8:45 am]

BILLING CODE 5001-06-P